DEPARTMENT OF ENERGY

Federal Energy Regulatory Commission

[Docket Nos. RP01-333-001 and RP01-380-001]

Tuscarora Gas Transmission Company; Notice of Change in Gas Tariff

May 22, 2001.

Take notice that on May 16, 2001, Tuscarora Gas Transmission Company (Tuscarora) tendered for filing for as part of its FERC Gas Tariff, Original Volume No. 1, the following substitute tariff sheets, to become effective May 18, 2001:

Sub Second Revised Sheet No. 66

Sub Original Sheet No. 66A

Tuscarora states that the purpose of this filing is to incorporate into its currently effective tariff certain tariff provisions previously accepted by the Commission but inadvertently superseded by a subsequent, unrelated tariff filing.

Tuscarora states that copies of its filing have been mailed to all parties listed on the official service listed prepared by the Secretary in these proceedings.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-13360 Filed 5-25-01; 8:45 am]

BILLING CODE 6717-01-M